DEPARTMENT OF ENERGY

Federal Energy Regulatory Commission

Combined Notice of Filings #1

October 21, 2010.

Take notice that the Commission received the following electric corporate filings:

Docket Numbers: EC11-11-000

Applicants: Champion Energy Marketing LLC, EDF Trading North America, LLC

Description: Section 203 Application of Champion Energy Marketing LLC and EDF Trading North America, LLC.

Filed Date: 10/20/2010

Accession Number: 20101020-5152

Comment Date: 5 p.m. Eastern Time on Wednesday, November 10, 2010

Take notice that the Commission received the following electric rate filings:

Docket Numbers: ER97-1481-013

Applicants: Idaho Power Company

Description: Supplemental information to Idaho Power Company's June 30, 2010 triennial update to its market power analysis in support of its Market-Based Rates Tariff.

Filed Date: 10/19/2010

Accession Number: 20101019-5123

Comment Date: 5 p.m. Eastern Time on Tuesday, November 9, 2010

Docket Numbers: ER10-1774-001

Applicants: Carolina Power & Light Company

Description: Carolina Power & Light Company submits tariff filing per 35: Revised OATT Section 23 of Carolina Power and Light Co. per Order No. 739 to be effective 9/24/2010.

Filed Date: 10/21/2010

Accession Number: 20101021-5026

Comment Date: 5 p.m. Eastern Time on Friday, November 12, 2010

Docket Numbers: ER10-1775-002

Applicants: Florida Power Corporation

Description: Florida Power Corporation submits tariff filing per 35: Revised OATT Section 23 of Florida Power Corp. per Order No. 739 to be effective 9/24/2010.

Filed Date: 10/21/2010

Accession Number: 20101021-5027

Comment Date: 5 p.m. Eastern Time on Friday, November 12, 2010

Docket Numbers: ER10-3215-001

Applicants: Eagle Power Authority, Inc.

Description: Eagle Power Authority, Inc. submits tariff filing per 35.17(b): Eagle Power Authority Amendment Filing for ER10-3242 to be effective 10/19/2010.

Filed Date: 10/21/2010

Accession Number: 20101021-5041

Comment Date: 5 p.m. Eastern Time on Friday, November 12, 2010

Docket Numbers: ER11-40-002

Applicants: Arizona Public Service Company

Description: Arizona Public Service Company submits tariff filing per 35.17(b): Rate Schedule No. 217 Amendment to be effective 10/6/2010.

Filed Date: 10/21/2010

Accession Number: 20101021-5062

Comment Date: 5 p.m. Eastern Time on Friday, November 12, 2010

Docket Numbers: ER11-1841-000

Applicants: GenConn Energy LLC

Description: GenConn Energy LLC submits tariff filing per 35.15: Cancellation of Tariff and Duplicate Company Tariff ID to be effective 9/24/2010.

Filed Date: 10/20/2010

Accession Number: 20101020-5060

Comment Date: 5 p.m. Eastern Time on Wednesday, November 10, 2010

Docket Numbers: ER11-1842-000

Applicants: ISO New England Inc., New England Power Company

Description: ISO New England Inc. submits tariff filing per 35.12: RI Genco LGIA-Original Service Agreement No. LGIA-ISONE/NEP-10-03 to be effective 10/21/2010.

Filed Date: 10/20/2010

Accession Number: 20101020-5062

Comment Date: 5 p.m. Eastern Time on Wednesday, November 10, 2010

Docket Numbers: ER11-1843-000

Applicants: Ridgewind Power Partners, LLC

Description: Ridgewind Power Partners, LLC submits tariff filing per 35.12: Baseline Electric Market-Based Rates to be effective 11/30/2010.

Filed Date: 10/20/2010

Accession Number: 20101020-5067

Comment Date: 5 p.m. Eastern Time on Wednesday, November 10, 2010

Docket Numbers: ER11-1844-000

Applicants: Midwest Independent Transmission System Operator, Inc.

Description: Midwest Independent Transmission System Operator, Inc. submits tariff filing per 35.13(a)(2)(iii): 10-20-10 to be effective 1/1/2011.

Filed Date: 10/20/2010

Accession Number: 20101020-5068

Comment Date: 5 p.m. Eastern Time on Wednesday, November 10, 2010

Docket Numbers: ER11-1845-000

Applicants: Midwest Independent Transmission System Operator, Inc.

Description: Midwest Independent Transmission System Operator, Inc. submits tariff filing per 35.13(a)(2)(iii): Section 23.1 Filing to be effective 10/1/2010.

Filed Date: 10/20/2010

Accession Number: 20101020-5079

Comment Date: 5 p.m. Eastern Time on Wednesday, November 10, 2010

Docket Numbers: ER11-1846-000

Applicants: Direct Energy Services, LLC

Description: Direct Energy Services, LLC submits tariff filing per 35.12: Direct Energy Services, LLC Rate Schedule FERC No. 1 to be effective 10/20/2010.

Filed Date: 10/20/2010

Accession Number: 20101020-5080

Comment Date: 5 p.m. Eastern Time on Wednesday, November 10, 2010

Docket Numbers: ER11-1847-000

Applicants: Direct Energy Marketing Inc.

Description: Direct Energy Marketing Inc. submits tariff filing per 35.12: Direct Energy Marketing Inc. Rate Schedule FERC No. 1 to be effective 10/20/2010.

Filed Date: 10/20/2010

Accession Number: 20101020-5083

Comment Date: 5 p.m. Eastern Time on Wednesday, November 10, 2010

Docket Numbers: ER11-1848-000

Applicants: Energy America LLC

Description: Energy America LLC submits tariff filing per 35.12: Energy America LLC FERC Electric Tariff to be effective 10/20/2010.

Filed Date: 10/20/2010

Accession Number: 20101020-5084

Comment Date: 5 p.m. Eastern Time on Wednesday, November 10, 2010

Docket Numbers: ER11-1849-000

Applicants: PacifiCorp

Description: Cancellation of PacifiCorp Service Agreement FERC No. 475 for Ancillary Services Related to Short-Term Transmission between PacifiCorp and PPM Energy, Inc., predecessor to Iberdrola Renewables, Inc.

Filed Date: 10/20/2010

Accession Number: 20101020-5085

Comment Date: 5 p.m. Eastern Time on Wednesday, November 10, 2010

Docket Numbers: ER11-1850-000

Applicants: Direct Energy Business, LLC

Description: Direct Energy Business, LLC submits tariff filing per 35.12: Direct Energy Business, LLC Electric Rate Schedule FERC No. 1 to be effective 10/20/2010.

Filed Date: 10/20/2010

Accession Number: 20101020-5087

Comment Date: 5 p.m. Eastern Time on Wednesday, November 10, 2010

Docket Numbers: ER11-1851-000

Applicants: Midwest Independent Transmission System Operator, Inc.

Description: Midwest Independent Transmission System Operator, Inc. submits tariff filing per 35.13(a)(2)(iii): Ameren-Kirkwood WDS to be effective 12/31/9998.

Filed Date: 10/20/2010

Accession Number: 20101020-5105

Comment Date: 5 p.m. Eastern Time on Wednesday, November 10, 2010

Docket Numbers: ER11-1852-000

Applicants: Alabama Power Company

Description: Alabama Power Company submits tariff filing per 35: Capacity Reassignment—Section 23.1 Compliance Filing to be effective 10/1/2010.

Filed Date: 10/20/2010

Accession Number: 20101020-5117

Comment Date: 5 p.m. Eastern Time on Wednesday, November 10, 2010

Docket Numbers: ER11-1853-000

Applicants: Fowler Ridge II Wind Farm LLC

Description: Fowler Ridge II Wind Farm LLC submits tariff filing per 35: Compliance Filing, Docket No. ER09-1650-001 and OA09-32-001 to be effective 12/31/9998.

Filed Date: 10/20/2010

Accession Number: 20101020-5123

Comment Date: 5 p.m. Eastern Time on Wednesday, November 10, 2010

Docket Numbers: ER11-1854-000

Applicants: NV Energy, Inc.

Description: NV Energy, Inc. submits a Compliance Filing for its FERC Electric Tariff, Volume No 1—Open Access Transmission Tariff, to be effective 10/21/2010.

Filed Date: 10/21/2010

Accession Number: 20101021-5007

Comment Date: 5 p.m. Eastern Time on Friday, November 12, 2010

Docket Numbers: ER11-1855-000

Applicants: Cleco Power LLC

Description: Cleco Power LLC submits revised OATT Section 23 for inclusion in its Open Access Transmission Tariff, to be effective 10/21/2010.

Filed Date: 10/21/2010

Accession Number: 20101021-5034

Comment Date: 5 p.m. Eastern Time on Friday, November 12, 2010

Docket Numbers: ER11-1856-000

Applicants: Southwest Power Pool, Inc.

Description: Southwest Power Pool, Inc. submits tariff filing per 35.13(a)(2)(iii): 2056 Broken Bow Wind, LLC GIA to be effective 9/27/2010.

Filed Date: 10/21/2010

Accession Number: 20101021-5042

Comment Date: 5 p.m. Eastern Time on Friday, November 12, 2010

Docket Numbers: ER11-1857-000

Applicants: NV Energy, Inc.

Description: NV Energy, Inc. submits tariff filing per 35: Order 739 Compliance Filing—Capacity Reassignment to be effective 10/1/2010.

Filed Date: 10/21/2010

Accession Number: 20101021-5049

Comment Date: 5 p.m. Eastern Time on Friday, November 12, 2010

Docket Numbers: ER11-1858-000

Applicants: NorthWestern Corporation

Description: NorthWestern Corporation submits tariff filing per 35: Market-Based Rate Tariff to be effective 10/21/2010.

Filed Date: 10/21/2010

Accession Number: 20101021-5053

Comment Date: 5 p.m. Eastern Time on Friday, November 12, 2010

Docket Numbers: ER11-1859-000

Applicants: Montana Generation, LLC

Description: Montana Generation, LLC submits tariff filing per 35: Market Based Tariff to be effective 10/21/2010.

Filed Date: 10/21/2010

Accession Number: 20101021-5054

Comment Date: 5 p.m. Eastern Time on Friday, November 12, 2010

Docket Numbers: ER11-1860-000

Applicants: Public Service Company of New Mexico

Description: Public Service Company of New Mexico submits tariff filing per 35: Baseline Filing of PNM-EPE Interconnection Agreement to be effective 10/21/2010.

Filed Date: 10/21/2010

Accession Number: 20101021-5056

Comment Date: 5 p.m. Eastern Time on Friday, November 12, 2010

Docket Numbers: ER11-1861-000

Applicants: PacifiCorp

Description: PacifiCorp submits tariff filing per 35: OATT Revised Section 23 to be effective 9/24/2010.

Filed Date: 10/21/2010

Accession Number: 20101021-5064

Comment Date: 5 p.m. Eastern Time on Friday, November 12, 2010

Docket Numbers: ER11-1862-000

Applicants: ISO New England Inc.

Description: ISO New England Inc. Resource Termination Filing.

Filed Date: 10/21/2010

Accession Number: 20101021-5100

Comment Date: 5 p.m. Eastern Time on Friday, November 12, 2010

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-27240 Filed 10-27-10; 8:45 am]

BILLING CODE 6717-01-P